DEPARTMENT OF LABOR

Employment and Training Administration

[TA-W-38,377]

Dearborn Brass, 21st Century Companies, Inc., Media, PA; Notice of Termination of Investigation

Pursuant to section 221 of the Trade Act of 1974, an investigation was initiated on October 4, 2000 in response to a petition filed on behalf of workers at Dearborn Brass, 21st Century Companies, Inc., Media, Pennsylvania.

The petition verification stage of the investigation revealed the petitioning group of workers are actually located in Tyler, Texas. The worker group is subject to an ongoing investigation for which a determination has not yet been issued (TA-W-38,349). Consequently, further investigation in this case would serve no purpose, and the investigation has been terminated.

Signed in Washington, DC this 12th day of December, 2000.
Linda G. Poole,
Certifying Officer, Division Trade Adjustment Assistance.

[FR Doc. 00-33072 Filed 12-27-00; 8:45 am]

BILLING CODE 4510-30-M